FEDERAL COMMUNICATIONS COMMISSION

Notice of Public Information Collection(s) Being Reviewed by the Federal Communications Commission for Extension Under Delegated Authority

January 26, 2005.

Summary: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

Dates: Written Paperwork Reduction Act (PRA) comments should be submitted on or before April 4, 2005. If you anticipate that you will be submitting comments, but find it difficult to do so within the period of time allowed by this notice, you should advise the contact listed below as soon as possible.

Addresses: Direct all Paperwork Reduction Act (PRA) comments to Cathy Williams, Federal Communications Commission, Room 1-C823, 445 12th Street, SW., Washington, DC 20554 or via the Internet to Cathy.Williams@fcc.gov.

For Further Information Contact: For additional information or copies of the information collection(s), contact Cathy Williams at (202) 418-2918 or via the Internet at Cathy.Williams@fcc.gov.

Supplementary Information:

OMB Control Number: 3060-0841.

Title: Public Notice—Additional Processing Guidelines for DTV (Nonchecklist applications).

Form Number: FCC Forms 301 and 340.

Type of Review: Extension of a currently approved collection.

Respondents: Business or other for-profit entities; Not-for-profit institutions.

Number of Respondents: 300.

Estimated Time per Response: 3 hours.

Frequency of Response: On occasion reporting requirement; Third party disclosure requirement.

Total Annual Burden: 900 hours.

Total Annual Cost: $1,080,000.

Privacy Impact Assessment: No impact(s).

Needs and Uses:The Commission released a Public Notice on August 10, 1998, that explained how “nonchecklist” applications (i.e., applications that do not conform to certain criteria to enable “fast-track processing”) would be processed for Digital Television (DTV) station construction permits. This public notice explained what should be included in engineering showings and other types of application exhibits and cover letters.

This public notice for “nonchecklist” applications should help to resolve processing uncertainties, enable the preparation of complete and quality applications, and hasten the authorization of DTV service. The FCC staff will use this data to ensure that interference to other DTV and NTSC (analog TV) stations is minimized.

Federal Communications Commission.
Marlene H. Dortch,
Secretary.

[FR Doc. 05-1934 Filed 2-1-05; 8:45 am]

BILLING CODE 6712-10-P